DEPARTMENT OF JUSTICE

Notice of Lodging of Proposed Third Modified Consent Decree Under the Clean Water Act

On March 14, 2014, the Department of Justice lodged a proposed Third Modified Consent Decree with the United States District Court for the Eastern District of Louisiana in the lawsuit entitled United States v. Sewage and Water Board of New Orleans, Civil Action No. 2:93-CV-3212-MVL.

In 1998, a Consent Decree was entered in this Clean Water Act enforcement action. Among other requirements, that Consent Decree required the Sewage and Water Board of New Orleans (“the Board”) to perform remedial work on its sewage system in nine designated basins. Work in four of those basins was completed prior to Hurricane Katrina in 2005. A Modified Consent Decree extending the deadlines for the remaining five basins was entered in 2010. For two basins of those five basins, the schedule was further extended under a Second Modified Consent Decree entered in 2013. The proposed Third Modified Consent Decree would extend the schedule for the three basins not addressed in the Second Modified Consent Decree (i.e., the MidCity, Carrollton, and South Shore basins). In addition to the schedule changes, the proposed Third Modified Consent Decree also includes additional requirements related to funding green infrastructure and to reporting on coordination between the Board and the City of New Orleans with respect to work required under the Third Modified Consent Decree.

The publication of this notice opens a period for public comment on the Third Modified Consent Decree. Comments should be addressed to the Assistant Attorney General, Environment and Natural Resources Division, and should refer to United States v. Sewage and Water Board of New Orleans, D.J. Ref. No. 90-5-1-1-4032. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Third Modified Consent Decree may be examined and downloaded at this Justice Department Web site: http://www.usdoj.gov/enrd/Consent_Decrees.html. We will provide a paper copy of the Third Modified Consent Decree upon written request and payment of reproduction costs. Please mail your request and payment to: Consent Decree Library, U.S. DOJ—ENRD, P.O. Box 7611, Washington, DC 20044-7611.

Please enclose a check or money order for $17.25 (25 cents per page reproduction cost) payable to the United States Treasury.

Thomas Carroll,
Assistant Chief, Environmental Enforcement Section, Environment and Natural Resources Division.

[FR Doc. 2014-06104 Filed 3-19-14; 8:45 am]

BILLING CODE 4410-15-P